DEPARTMENT OF THE INTERIOR

National Park Service

Notice of Extension of the Concession Contract for Bighorn Canyon National Recreation Area, MT

AGENCY: National Park Service, Interior.

ACTION: Notice of proposal to extend the concession contract for the operation of the Ok-A-Beh Marina within Bighorn Canyon National Recreation Area, MT.

DATES: Effective Date: May 1, 2008.

FOR FURTHER INFORMATION CONTACT: Jo A. Pendry, Concession Program Manager, National Park Service, Washington, DC 20240, Telephone 202/513-7156.

SUMMARY: Pursuant to 36 CFR 51.23, public notice is hereby given that the National Park Service proposes to extend the expiring concession contract for the operation of the Ok-A-Beh Marina within Bighorn Canyon National Recreation Area, Montana for a period of up to 1 year, or until such time as a new contract is executed, whichever occurs sooner. This action is necessary to avoid interruption of visitor services.

SUPPLEMENTARY INFORMATION: Concession Contract CC-BICA007-05 expired by its term on December 31, 2007. The concessioner is LuCon Corporation operating within Bighorn Canyon National Recreation Area. The National Park Service has determined that the proposed short-term extension is necessary in order to avoid interruption of visitor services and has taken all reasonable and appropriate steps to consider alternatives to avoid such interruption.

This is not a request for proposals.

Dated: March 5, 2008.
Daniel N. Wenk,
Deputy Director, Operations, National Park Service.

[FR Doc. E8-5958 Filed 3-25-08; 8:45 am]

BILLING CODE 4312-53-M